ENVIRONMENTAL PROTECTION AGENCY

[EPA-HQ-OA-2006-0513; FRL-8185-6]

Agency Information Collection Activities: Request for Renewal of Information Collection for EPA's National Environmental Performance Track Program, EPA ICR Number 1949.05, OMB Control Number 2010-0032

AGENCY: Environmental Protection Agency (EPA).

ACTION: Notice.

SUMMARY: In compliance with the Paperwork Reduction Act (44 U.S.C. 3501 et seq.), this document announces that EPA is planning to submit a request to renew an existing approved Information Collection Request (ICR) to the Office of Management and Budget (OMB). This ICR is scheduled to expire on August 31, 2006. The request will be to renew the existing approved collection (EPA ICR Number 1949.03, OMB Control Number 2010-0032, National Environmental Performance Track Program). Before submitting the ICR to OMB for review and approval, EPA is soliciting comments on specific aspects of the proposed information collections as described below.

DATES: Comments must be submitted on or before August 21, 2006.

ADDRESSES: Submit your comments, identified by Docket ID No. EPA-HQ-OA-2006-0513 by one of the following methods:

• http://www.regulations.gov: Follow the on-line instructions for submitting comments.

• E-mail: docket.oei@epa.gov.

• Fax: 202-566-0224.

• Mail: Office of Administrator Docket, Environmental Protection Agency, Mailcode: 2822T, 1200 Pennsylvania Ave., NW., Washington, DC 20460.

• Hand Delivery: EPA Docket Center, EPA West, Room B-102, 1301 Constitution Ave, NW., Washington, DC 20460. Such deliveries are only accepted during the Docket's normal hours of operation (8:30 a.m. to 4:30 p.m. M-F), special arrangements should be made for deliveries of boxed information.

Instructions: Direct your comments to Docket ID No. EPA-HQ-OA-2006-0513. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or via e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the EPA Docket Center, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Office of Administrator Docket is (202) 566-1752).

FOR FURTHER INFORMATION CONTACT: Robert D. Sachs, Office of Policy, Economics and Innovation, Mail Code 1807T, Environmental Protection Agency, 1200 Pennsylvania Ave., NW., Washington, DC 20460; telephone number: (202) 566-2884; fax Number: (202) 566-0966; e-mail address: Sachs.Robert@epa.gov.

SUPPLEMENTARY INFORMATION: EPA has established a public docket for this ICR under Docket ID Number EPA-HQ-OA-2006-0513, which is available for online viewing at http://www.regulations.gov, or in person viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752.

Use http://www.regulations.gov to obtain a copy of the draft collection of information, submit or view public comments, access the index listing of the contents of the docket, and to access those documents in the public docket that are available electronically. Once in the system, select “search” then key in the docket ID number identified in this document.

What Information Is EPA Particularly Interested In?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are facility members of EPA's National Environmental Performance Track program.

Title: Request for Renewal of Information Collection for EPA's National Environmental Performance Track Program.

ICR Numbers: EPA ICR No. 1949.03, OMB Control No. 2010-0032.

ICR Status: This ICR is currently scheduled to expire on August 31, 2006. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA's National Environmental Performance Track is a voluntary program that recognizes and rewards private and public facilities that demonstrate top environmental performance beyond current requirements. The program is based on the premise that government should complement existing programs with new tools and strategies that not only protect people and the environment, but also capture opportunities for reducing cost and spurring technological innovation.

Performance Track is a facility based program (not company-wide) that solicits and receives applications and makes acceptance decisions twice per year from February through April, and August through October. Applying facilities must meet four basic criteria: (1) A history of sustained compliance with environmental regulations; (2) an Environmental Management System (EMS) in place that has undergone an assessment by an independent third party; (3) past and future environmental achievements, and a commitment to quantified continuous environmental improvement; and (4) public involvement and annual reporting. Once accepted, members remain in the program for three years, as long as they continue to meet the program criteria. After three years, they may apply to renew their membership through a streamlined application process.

In this request, EPA proposes to renew ICR 1949.03, set to expire on August 31, 2006. This ICR requests approval to collect information from applicants and members of the National Environmental Performance Track program. A total of 401 facilities are current members.

No confidential information is requested in this notice. An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and recordkeeping burden for this collection of information is estimated to average 16.4 hours per facility per year. This includes all applications, compliance screens, annual reporting, incentives participation, and site visits.

The ICR provides a detailed explanation of the Agency's estimate, which is only briefly summarized here:

Estimated total number of respondents: 476.

Frequency of response: Annually, biennially, and triennially.

Estimated total average number of responses for each respondent: 2 or 3.

Estimated total annual burden hours: 7,805.

Estimated total annual costs: $514,521. This includes an estimated burden cost of $514,521, and an estimated cost of $0.00 for capital investment or maintenance and operational costs.

EPA estimates that all facilities who voluntarily respond to this information collection by electing to participate in the Performance Track program have determined that the expected benefits of participation outweigh any burdens associated with preparing the response.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Are There Changes in the Estimates From the Last Approval?

This renewal ICR 1949.05 estimates annualized burden hours to be 7,805. This is a reduction of 105,634 hours from the previous reportable burden to OMB of 113,439 hours. The primary reason for this decrease is the burden hour estimate in “program participation” under ICR 1949.03. The estimated hours for program participation were dramatically overestimated in the previous ICR, and EPA has determined therefore that these hours were incorrect. Specifically, EPA estimated significant burden for “compliance demonstration, EMS documentation and reporting, continuous performance demonstration, and reporting and public outreach.” This burden was not correctly estimated, nor attributable to information collection requirements of the Performance Track Program. Other areas that contributed to the decrease in burden hours are application and renewal application hours, incentives hours, and annual performance reporting hours. Estimated burden hours per facility for the customer satisfaction survey have not changed. Finally, EPA has gained tremendous experience in the last three years about implementing its Performance Track Program, and assessing information collection burden in ICR amendments 1949.03 and 1949.04. As a result of this experience, EPA believes that current estimates in ICR 1949.05 to be significantly more accurate than previous estimates.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: June 14, 2006.
David W. Guest,
Acting Director, Performance Incentives Division.

[FR Doc. E6-9870 Filed 6-21-06; 8:45 am]

BILLING CODE 6560-50-P